DEPARTMENT OF AGRICULTURE

Rogue/Umpqua Resource Advisory Committee (RAC)

AGENCY: Forest Service, USDA.

ACTION: Action of meeting.

SUMMARY: The Rogue/Umpqua Resource Advisory Committee (RAC) will meet on Thursday and Friday, July 8 and 9, 2004. The meeting is scheduled to begin at 8 a.m. and conclude at approximately 5 p.m. on July 8 and begin at 8 a.m. and conclude at approximately 4:30 p.m. on July 9. The meeting will be held at the Umpqua National Forest headquarters, 2900 NW., Stewart Parkway, Roseburg, OR. On July 8, the agenda includes (1) Approval of the July 17 and 18, 2003, and May 14, 2004, meeting followed by a review of the 2004 budget/expense summary and the 2005 project budget summary notes at 8:30 a.m., (2) Review of previous Title II projects on the Rogue River and Umpqua national forests at 9:15 a.m., (3) Public Forum at 10:30 a.m. (4) Review of Title II projects in Klamath County proposed for 2005 by the Forest Service at 11 a.m., and (5) Review of Title II projects in Jackson County proposed for 2005 by the Forest Service and private individuals at 12:45 p.m. The agenda on July 9 includes (1) Public Forum at 8:05 a.m., (2) Review of Title II projects in Douglas County proposed for 2005 by the Forest Service and private individuals at 8:30 a.m., (3) Review of Title II projects in Lane Count proposed for 2005 by the Forest Service and private individuals at 2 p.m., (4) Review of Title II projects in Josephine County proposed for 2005 by the Forest Service at 3:30 p.m., and (5) Selecting next meeting or field trip date at 4:15 p.m. Written public comments may be submitted prior to the July meeting by sending them to Designated Federal Official Jim Caplan at the address given below.

FOR FURTHER INFORMATION CONTACT: For more information regarding this meeting, contact Designated Federal Official Jim Caplan; Umpqua National Forest; P.O. Box 1008, Roseburg, Oregon 97470; (541) 957-3203.

Dated: June 21, 2004.
James A. Caplan,
Forest Supervisor, Umpqua National Forest.

[FR Doc. 04-14541 Filed 6-24-04; 8:45 am]

BILLING CODE 3410-11-M